DEPARTMENT OF THE INTERIOR

National Park Service

[NPS-WASO-NRNHL-DTS#-33773; PPWOCRADI0, PCU00RP14.R50000]

National Register of Historic Places; Notification of Pending Nominations and Related Actions

AGENCY: National Park Service, Interior.

ACTION: Notice.

SUMMARY: The National Park Service is soliciting electronic comments on the significance of properties nominated before April 16, 2022, for listing or related actions in the National Register of Historic Places.

DATES: Comments should be submitted electronically by May 16, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 16, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

INDIANA

Clark County

Centralia Court Historic District (Historic Residential Suburbs in the United States, 1830-1960 MPS), Centralia Ct. (east and west sides) and Gutford Rd. (east side) between Providence Way and Emerson Ave., and north side of Emerson Ave. between Centralia Ct. and Gutford Rd., Clarksville, MP100007733

Howard County

Russiaville Interurban Depot, 483 East Main St., Russiaville, SG100007734

Huntington County

Warren Downtown Historic District, Roughly bounded by 1st, Mathilda, 3rd, and Nancy Sts., Warren, SG100007735

Lake County

Carolyn Mosby Senior High Rise, 650 Jackson St., Gary, SG100007736

Marion County

Mattison, Donald M., House (Residential Planning and Development in Indiana, 1940-1973 MPS), 4821 Buttonwood Crescent, Indianapolis, MP100007737

Pulaski County

Chicago and Erie Railroad Tippecanoe River Bridge, Former Chicago and Erie RR across Tippecanoe R. adjacent to bend in Three Mile Rd., Monterey vicinity, SG100007738

St. Joseph County

St. Joseph's Parish Square, Bounded by West 3rd, West 4th, South Mill, and South Spring Sts., Mishawaka, SG100007740

Steuben County

Farnham, Erastus and Louise, House and Barn, 205 West Swager Dr., Fremont, SG100007739

Vigo County

Wesley Foundation Student Center, 321 North 7th St., Terre Haute, SG100007741

MASSACHUSETTS

Suffolk County

Camden Street Development Historic District, 50-60 Camden St., 15-35 Brannon Harris Way, 575-585 Shawmut Ave., Boston, SG100007727

Worcester County

Main and Franklin Streets Historic District, Roughly bounded by Main, Franklin, Federal, Salem, and Portland Sts., Worcester, SG100007732

TENNESSEE

Rutherford County

Benevolent Cemetery, Park Ave., Murfreesboro, SG100007730

WASHINGTON

Adams County

Bassett Hardware Co. Store, 305 South Main St., Washtucna, SG100007729

Nominations submitted by Federal Preservation Officers:

The State Historic Preservation Officer reviewed the following nominations and responded to the Federal Preservation Officer within 45 days of receipt of the nominations and supports listing the properties in the National Register of Historic Places.

CONNECTICUT

New Haven County

West Haven VA Hospital Historic District (United States Third Generation Veterans Hospitals, 1946-1958 MPS), 950 Campbell Ave., West Haven, MP100007728

PENNSYLVANIA

Butler County

Butler Veterans Administration Hospital Historic District (United States Third Generation Veterans Hospitals, 1946-1958 MPS), 325 New Castle Rd., Butler Township, MP100007743

Authority: Section 60.13 of 36 CFR part 60.

Dated: April 19, 2022.
Sherry A. Frear,
Chief, National Register of Historic Places/National Historic Landmarks Program.

[FR Doc. 2022-09184 Filed 4-28-22; 8:45 am]

BILLING CODE 4312-52-P